DEPARTMENT OF ENERGY

Federal Energy Regulatory Commission

[Project No. 618-139]

Alabama Power Company; Notice of Application for Amendment of License and Soliciting Comments, Motions To Intervene, and Protests

May 23, 2007.

Take notice that the following hydroelectric application has been filed with the Commission and is available for public inspection:

a. Type of Application: Request for Temporary Variance of Minimum Flow Requirement.

b. Project No.: 618-139.

c. Date Filed: May 21, 2007.

d. Applicant: Alabama Power Company.

e. Name of Project: Jordan Dam.

f. Location: On the Coosa River, in Elmore, Chilton, and Coosa Counties, Alabama.

g. Filed Pursuant to: Federal Power Act, 16 U.S.C. 791a-825r.

h. Applicant Contact: Alan L. Peeples, Alabama Power Company, 600 N. 18th Street, P.O. Box 2641, Birmingham, AL 35291, (205) 257-1401.

i. FERC Contact: Peter Yarrington, peter.yarrington@ferc.gov, (202) 502-6129.

j. Deadline for filing comments, motions to intervene and protests: June 6, 2007.

All documents (original and eight copies) should be filed with: Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: The Alabama Power Company (APC) is requesting a temporary variance of the minimum flow requirement of the Jordan Dam Project license. Because of persistent and worsening drought conditions in the project area and the need to conserve water, APC requests that it be allowed to begin downramping from 3,000 cubic feet per second (cfs) to 2,000 cfs beginning on or about May 22, 2007, rather than beginning this downramping June 16 as required in the license. Once flows are downramped to 2000 cfs this flow release would be maintained until the following April 1 as required in the license. Included in APC's request were concurrences received from the state and federal resource agencies. The Commission's order issued March 30, 2007, authorized among other things the APC to increase minimum flows from 2,000 cfs to 3,000 cfs rather than to 4,000 cfs beginning April 1, 2007.

l. Location of the Application: The filing is available for inspection and reproduction at the Commission's Public Reference Room, located at 888 First Street, NE., Room 2A, Washington, DC 20426 or by calling (202) 502-8371, or by calling (202) 502-8371. This filing may also be viewed on the Commission's Web site at http://ferc.gov using the “eLibrary” link. Enter the docket number excluding the last three digits in the docket number field to access the document. You may also register online at http://www.ferc.gov/docsfiling/esubscription.asp to be notified vial e-mail or new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(I)(iii) and the instructions on the Commission's Web site at http://www.ferc.gov under the “e-Filing” link.

Kimberly D. Bose,
Secretary.

[FR Doc. E7-10432 Filed 5-30-07; 8:45 am]

BILLING CODE 6717-01-P